COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2011.

DATES: Effective Date: October 1, 2011.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 73 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2011, are as follows:

Agency for International Development

Phone Number: (202) 712-1150.

CIGIE Liaison—Thereasa L. Lyles (202) 712-1393.

Michael G. Carroll—Deputy Inspector General.

Joseph Farinella (SFS)—Assistant Inspector General for Audit.

Melinda Dempsey—Deputy Assistant Inspector General for Audit.

Howard I. Hendershot—Assistant Inspector General for Investigations.

Alvin A. Brown—Assistant Inspector General, Millennium Challenge Corporation.

Lisa Goldfluss—Legal Counsel.

Department of Agriculture

Phone Number: (202) 720-8001.

CIGIE Liaison—Dina J. Barbour (202) 720-8001.

David R. Gray—Deputy Inspector General.

Christy A. Slamowitz—Counsel to the Inspector General.

Robert W. Young—Special Assistant to the Inspector General for the Recovery Act.

Gilroy Harden—Assistant Inspector General for Audit.

Rodney G. DeSmet—Deputy Assistant Inspector General for Audit.

Tracy A. LaPoint—Deputy Assistant Inspector General for Audit.

Steven H. Rickrode, Jr.—Deputy Assistant Inspector General for Audit.

Karen L. Ellis—Assistant Inspector General for Investigations.

Kathy C. Horsley—Deputy Assistant Inspector General for Investigations.

Suzanne M. Murrin—Assistant Inspector General for Management.

Department of Commerce

Phone Number: (202) 482-4661.

CIGIE Liaison—Randall Popelka (202) 482-5422.

Wade Green, Jr.—Counsel to the Inspector General.

Scott Dahl—Deputy Inspector General.

Allen Crawley—Assistant Inspector General for Systems Acquisition and IT Security.

Ronald C. Prevost—Assistant Inspector General for Economic and Statistical Program Assessment.

Department of Defense

Phone Number: (703) 604-8324.

CIGIE Liaison—John R. Crane (703) 604-8324.

Michael S. Child—Chief of Staff.

James B. Burch—Deputy Inspector General for Investigations.

Patricia A. Brannin—Deputy Inspector General for Intelligence and Special Program Assessments.

James R. Ives—Assistant Inspector General for Investigative Operations.

John R. Crane—Assistant Inspector General for Communications and Congressional Liaison.

Department of Education

Phone Number: (202) 245-6900.

CIGIE Liaison—Teri Clark (202) 245-6340.

Mary Mitchelson—Deputy Inspector General.

Wanda Scott—Assistant Inspector General for Evaluations, Inspections and Management Services.

Keith West—Assistant Inspector General for Audit.

Patrick Howard—Deputy Assistant Inspector General for Audit.

William Hamel—Assistant Inspector General for Investigations.

Lester Fernandez—Deputy Assistant Inspector General for Investigations.

Charles Coe—Assistant Inspector General for Information Technology Audits and Computer Crime Investigations.

Marta Erceg—Counsel to the Inspector General.

Department of Energy

Phone Number: (202) 586-4393.

CIGIE Liaison—Juston Fontaine (202) 586-1959.

John Hartman—Deputy Inspector General for Investigations.

Rickey Hass—Deputy Inspector General for Audits and Inspections.

Linda Snider—Deputy Inspector General for Management and Administration.

George Collard—Assistant Inspector General for Audits.

Sanford Parnes—Assistant Inspector General for Inspections.

Department of Health and Human Services

Phone Number: (202) 619-3148.

CIGIE Liaison—Sheri Denkensohn (202) 205-9492 and Elise Stein (202) 619-2686.

Larry Goldberg—Principal Deputy Inspector General.

Joanne Chiedi—Deputy Inspector General for Management and Policy.

Paul Johnson—Assistant Inspector General for Management and Policy (Chief Operating Officer).

Robert Owens, Jr.—Assistant Inspector General for Information Technology (Chief Information Officer).

Gerald Roy—Deputy Inspector General for Investigations.

Gary Cantrell—Assistant Inspector General for Investigations.

Jay Hodes—Assistant Inspector General for Investigations.

Stuart E. Wright—Deputy Inspector General for Evaluation and Inspections.

Lewis Morris—Chief Counsel to the Inspector General.

Greg Demske—Assistant Inspector General for Legal Affairs.

Brian Ritchie—Assistant Inspector General for Centers for Medicare & Medicaid Audits.

Department of Homeland Security

Phone Number: (202) 254-4100.

CIGIE Liaison—Erica Paulson (202) 254-0938.

Matthew A. Jadacki—Assistant Inspector General for Emergency Management Oversight.

Richard N. Reback—Counsel to the Inspector General.

Anne L. Richards—Assistant Inspector General for Audits.

Mark Bell—Deputy Assistant Inspector General for Audits.

John E. McCoy II—Deputy Assistant Inspector General for Audits.

Carlton I. Mann—Assistant Inspector General for Inspections.

Thomas M. Frost—Assistant Inspector General for Investigations.

James Gaughran—Deputy Assistant Inspector General for Investigations.

Wayne H. Salzgaber—Deputy Assistant Inspector General for Investigations.

Frank Deffer—Assistant Inspector General for Information Technology.

Department of Housing and Urban Development

Phone Number: (202) 708-0430.

CIGIE Liaison—Helen Albert (202) 708-0614, Ext. 8187.

John McCarty—Assistant Inspector General for Inspections and Evaluations.

Lester Davis—Deputy Assistant Inspector General for Investigations.

Randy McGinnis—Assistant Inspector General for Audit.

Brenda Patterson—Deputy Assistant Inspector General for Audit.

Helen Albert—Assistant Inspector General for Management and Policy.

Frank Rokosz—Deputy Assistant Inspector General for Audit.

Department of the Interior

Phone Number: (202) 208-5745.

CIGIE Liaison—Deborah Holmes (202) 208-5745.

Stephen Hardgrove—Chief of Staff.

Kimberly Elmore—Assistant Inspector General for Audits, Inspections and Evaluations.

John Dupuy—Assistant Inspector General for Investigations.

Eddie Saffarinia—Assistant Inspector General for Information Technology.

Bruce Delaplaine—General Counsel.

Roderick Anderson—Assistant Inspector General for Management.

Robert Knox—Assistant Inspector General for Recovery Oversight.

Department of Justice

Phone Number: (202) 514-3435.

CIGIE Liaison—Jay Lerner (202) 514-3435.

Cynthia Schnedar—Deputy Inspector General.

William M. Blier—General Counsel.

Raymond J. Beaudet—Assistant Inspector General for Audit.

Carol F. Ochoa—Assistant Inspector General for Oversight and Review.

Gregory T. Peters—Assistant Inspector General for Management and Planning.

Thomas F. McLaughlin—Assistant Inspector General for Investigations.

Michael D. Gulledge—Assistant Inspector General for Evaluation and Inspections.

Caryn A. Marske—Deputy Assistant Inspector General for Audit.

George L. Dorsett—Deputy Assistant Inspector General for Investigations.

Department of Labor

Phone Number: (202) 693-5100.

CIGIE Liaison—Christopher Seagle (202) 693-5231.

Daniel R. Petrole—Acting Inspector General.

Nancy F. Ruiz de Gamboa—Assistant Inspector General for Management and Policy.

Thomas F. Farrell—Assistant Inspector General for Labor Racketeering and Fraud Investigations.

Elliot P. Lewis—Assistant Inspector General for Audit.

Michael A. Raponi—Deputy Assistant Inspector General for Audit.

Howard L. Shapiro—Counsel to the Inspector General.

Richard Clark—Deputy Assistant Inspector General for Labor Racketeering and Fraud Investigations.

Asa E. Cunningham—Assistant Inspector General for Inspections and Special Investigations.

Department of State and the Broadcasting Board of Governors

Phone Number: (202) 663-0361.

CIGIE Liaison—Michael Wolfson (703) 284-2710.

Robert B. Peterson—Assistant Inspector General for Inspections.

Evelyn R. Klemstine—Assistant Inspector General for Audits.

Erich O. Hart—General Counsel.

Department of Transportation

Phone Number: (202) 366-1959.

CIGIE Liaison—Nathan P. Richmond (202) 366-1959.

Calvin L. Scovel III—Inspector General.

Ann M. Calvaressi Barr—Deputy Inspector General.

Brian A. Dettelbach—Assistant Inspector General for Legal, Legislative, and External Affairs.

Susan L. Dailey—Assistant Inspector General for Administration.

Timothy M. Barry—Principal Assistant Inspector General for Investigations.

Robert Westbrooks—Deputy Assistant Inspector General for Investigations.

Lou E. Dixon—Principal Assistant Inspector General for Auditing and Evaluation.

Jeffrey B. Guzzetti—Assistant Inspector for Aviation and Special Program Audits.

Matthew E. Hampton—Deputy Assistant Inspector General for Aviation and Special Program Audits.

Louis King—Assistant Inspector General for Financial and Information Technology Audits.

Joseph W. Comé—Assistant Inspector General for Highway and Transit Audits.

Thomas Yatsco—Deputy Assistant Inspector General for Highway and Transit Audits.

Mitchell L. Behm—Assistant Inspector General for Rail, Maritime and Economic Analysis.

Mary Kay Langan-Feirson—Assistant Inspector General for Acquisition and Procurement Audits.

Department of the Treasury

Phone Number: (202) 622-1090.

CIGIE Liaison—Tricia Hollis (202) 927-5835.

Richard K. Delmar—Counsel to the Inspector General.

Debra Ritt—Special Deputy IG for Small Business Lending Fund Program Oversight.

Tricia Hollis—Assistant Inspector General for Management.

P. Brian Crane—Assistant Inspector General for Investigations.

Marla A. Freedman—Assistant Inspector General for Audit.

Robert A. Taylor—Deputy Assistant Inspector General for Audit (Program Audits).

Joel Grover—Deputy Assistant Inspector General for Audit (Financial Management Audits).

Treasury Inspector General for Tax Administration/Department of the Treasury

Phone Number: (202) 622-6500.

CIGIE Liaison— Judith Grady (202) 622-6500.

Joseph Hungate, III—Principal Deputy Inspector General.

Michael Phillips—Deputy Inspector General for Audit.

Margaret Begg—Assistant Inspector General for Audit (Compliance and Enforcement Operations).

Michael Delgado—Assistant Inspector General for Investigations.

Alan Duncan—Assistant Inspector General for Audit (Security & Information Technology Services).

John Fowler—Deputy Assistant Inspector General for Investigations.

David Holmgren—Deputy Inspector General for Inspections and Evaluations.

Timothy Camus—Deputy Inspector General for Investigations.

Larry Koskinen—Associate Inspector General for Mission Support.

Mike McKenney—Assistant Inspector General for Audit (Returns Processing and Account Services).

Nancy Nakamura—Assistant Inspector General for Audit (Headquarters Operations and Exempt Organizations).

Department of Veterans Affairs

Phone Number: (202) 461-4720.

CIGIE Liaison—Joanne Moffett (202) 461-4720.

Richard Griffin—Deputy Inspector General.

Maureen Regan—Counselor to the Inspector General.

James O'Neill—Assistant Inspector General for Investigations.

Joseph Sullivan—Deputy Assistant Inspector General for Investigations (Field Operations).

Joseph Vallowe—Deputy Assistant Inspector General for Investigations (HQs Operations).

Belinda Finn—Assistant Inspector General for Audits and Evaluations.

Linda Halliday—Deputy Assistant Inspector General for Audits and Evaluations (Field Operations).

Sondra McCauley—Deputy Assistant Inspector General for Audits and Evaluations (HQs Management and Inspections).

Richard Ehrlichman—Assistant Inspector General for Management and Administration.

Dana Moore—Deputy Assistant Inspector General for Management and Administration.

John Daigh—Assistant Inspector General for Healthcare Inspections.

Patricia Christ—Deputy Assistant Inspector General for Healthcare Inspections.

Environmental Protection Agency

Phone Number: (202) 566-0847.

CIGIE Liaison—Aracely Nunez-Mattocks (202) 566-2546.

Aracely Nunez-Mattocks—Chief of Staff to the Inspector General.

J. Anthony Ogden—Counsel to the Inspector General.

Eileen McMahon—Assistant Inspector General for Congressional, Public Affairs and Management.

Melissa Heist—Assistant Inspector General for Audit.

Patrick Sullivan—Assistant Inspector General for Investigations.

Wade Najjum—Assistant Inspector General for Program Evaluation.

Stephen Nesbitt—Assistant Inspector General for Cyber Investigations and Homeland Security.

Patricia Hill—Assistant Inspector General for Mission Systems.

Federal Trade Commission

Phone Number: (202) 326-2800.

CIGIE Liaison—Cynthia Hogue (202) 326-2800.

John Seeba—Inspector General.

General Services Administration

Phone Number: (202) 501-0450.

CIGIE Liaison—Sarah S. Breen (202) 219-1351.

Robert C. Erickson—Deputy Inspector General.

Richard P. Levi—Counsel to the Inspector General.

Theodore R. Stehney—Assistant Inspector General for Auditing.

Regina M. O'Brien—Deputy Assistant Inspector General for Auditing.

Geoffrey Cherrington—Assistant Inspector General for Investigations.

Lee Quintyne—Deputy Assistant Inspector General for Investigations.

National Aeronautics and Space Administration

Phone Number: (202) 358-1220.

CIGIE Liaison—Renee Juhans (202) 358-1712.

Gail Robinson—Deputy Inspector General.

Frank LaRocca—Counsel to the Inspector General.

Kevin Winters—Assistant Inspector General for Investigations.

James Morrison—Assistant Inspector General for Audits.

Alan Lamoreaux—Assistant Inspector General for Management and Planning.

National Archives and Records Administration

Phone Number: (301) 837-3000.

CIGIE Liaison—John Simms (301) 837-1966.

Paul Brachfeld—Inspector General.

National Endowment for the Arts

Phone Number: (202) 682-5774.

CIGIE Liaison—Tonie Jones (202) 682-5402.

Tonie Jones—Inspector General.

National Endowment for the Humanities

Phone Number: (202) 606-8350.

CIGIE Liaison—Laura M.H. Davis (202) 606-8574.

Laura Davis—(Acting) Inspector General.

National Credit Union Administration

Phone Number: (703) 518-6351.

CIGIE Liaison—William DeSarno (703) 518-6351.

James Hagen—Deputy Inspector General.

National Science Foundation

Phone Number: (703) 292-7100.

CIGIE Liaison—Susan Carnohan (703) 292-5011 & Maury Pully (703) 292-5059.

Allison C. Lerner—Inspector General.

Thomas (Tim) Cross—Deputy Inspector General.

Brett M. Baker—Assistant Inspector General for Audit.

Peggy Fischer—Assistant Inspector General for Investigations.

Peace Corps

Phone Number: (202) 692-2900.

CIGIE Liaison—Joaquin Ferrao (202) 692-2921.

Kathy Buller—Inspector General (Foreign Service).

Nuclear Regulatory Commission

Phone Number: (301) 415-5930.

CIGIE Liaison—Deborah S. Huber (301) 415-5930.

David C. Lee—Deputy Inspector General.

Stephen D. Dingbaum—Assistant Inspector General for Audits.

Joseph A. McMillan—Assistant Inspector General for Investigations.

Office of Personnel Management

Phone Number: (202) 606-1200.

CIGIE Liaison—Joyce D. Price (202) 606-2156.

Norbert E. Vint—Deputy Inspector General.

Terri Fazio—Assistant Inspector General for Management.

Michael R. Esser—Assistant Inspector General for Audits.

Michelle B. Schmitz—Assistant Inspector General for Investigations.

J. David Cope—Assistant Inspector General for Legal Affairs.

Jeffery E. Cole—Deputy Assistant Inspector General for Audits.

Kimberly A. McKinley—Deputy Assistant Inspector General for Investigations.

Railroad Retirement Board

Phone Number: (312) 751-4690.

CIGIE Liaison—Jill Roellig (312) 751-4993.

William Tebbe—Assistant Inspector General for Investigations.

Small Business Administration

Phone Number: (202) 205-6586.

CIGIE Liaison—Robert F. Fisher (202) 205-6583.

Peter L. McClintock—Deputy Inspector General.

Glenn P. Harris—Counsel to the Inspector General.

John K. Needham—Assistant Inspector General for Auditing.

Daniel J. O'Rourke—Assistant Inspector General for Investigations.

Robert F. Fisher—Assistant Inspector General for Management and Policy.

Social Security Administration

Phone Number: (410) 966-8385.

CIGIE Liaison—Misha Kelly (202) 358-6319.

Gale Stone—Deputy Assistant Inspector General for Audit.

B. Chad Bungard—Counsel to the Inspector General.

Steve Mason—Deputy Assistant Inspector General for Investigations.

Michael Robinson—Assistant Inspector General for Technology and Resource Management.

Special Inspector General for Troubled Asset Relief Program

Phone Number: (202) 622-2658.

CIGIE Liaison—(202) 622-2658.

Christy Romero—Deputy Special Inspector General.

Kurt Hyde—Deputy Special Inspector General, Audit.

Kimberly Caprio—Assistant Deputy Special Inspector General, Audit.

Scott Rebein—Deputy Special Inspector General, Investigations.

Roderick Fillinger—General Counsel.

Cathy Alix—Deputy Special Inspector General, Operations.

Mia Levine—Chief of Staff.

United States Postal Service

Phone Number: (703) 248-2100.

CIGIE Liaison—Agapi Doulaveris (703) 248-2286.

Elizabeth Martin—General Counsel.

Gladis Griffith—Deputy General Counsel.

Ron Stith—Assistant Inspector General, Mission Support.

David Sidransky—Chief Information Officer.

Lance Carrington—Deputy Assistant Inspector General for Investigations—West.

Mark Duda—Deputy Assistant Inspector General for Audits—Support Operations.

Dated: September 8, 2011.
Mark D. Jones,
Executive Director, Council of the Inspectors General on Integrity and Efficiency.

[FR Doc. 2011-23972 Filed 9-16-11; 8:45 am]

BILLING CODE 6820-C9-P